NUCLEAR REGULATORY COMMISSION

[NRC-2023-0022]

Environmental Assessment and Finding of No Significant Impact of Independent Spent Fuel Storage Facilities Decommissioning Funding Plans

AGENCY: Nuclear Regulatory Commission.

ACTION: Environmental assessment and finding of no significant impact; issuance.

SUMMARY: The U.S. Nuclear Regulatory Commission (NRC) is publishing this notice regarding the issuance of a final environmental assessment (EA) and a finding of no significant impact (FONSI) for its review and approval of the updated decommissioning funding plans (DFPs) submitted by independent spent fuel storage installation (ISFSI) licensees for the ISFSIs listed in the “Discussion” section of this document.

DATES: The EA and FONSI referenced in this document are available on February 3, 2023.

ADDRESSES: Please refer to Docket ID NRC-2023-0022 when contacting the NRC about the availability of information regarding this document. You may obtain publicly available information related to this document using any of the following methods:

• Federal Rulemaking Website: Go to https://www.regulations.gov and search for Docket ID NRC-2023-0022. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8 a.m. and 4 p.m. Eastern Time (ET), Monday through Friday, except Federal holidays.

FOR FURTHER INFORMATION CONTACT: Tilda Liu, Office of Nuclear Material Safety and Safeguards, U.S. Nuclear Regulatory Commission, Washington, DC 20555-0001; telephone: 404-997-4730, email: Tilda.Liu@nrc.gov.

SUPPLEMENTARY INFORMATION:

I. Introduction

The NRC is considering the approval of the updated DFPs submitted by ISFSI licensees. The NRC staff has prepared a final EA and FONSI determination for each of the updated ISFSI DFPs in accordance with the NRC regulations in part 51 of title 10 of the Code of Federal Regulations (10 CFR), “Environmental Protection Regulations for Domestic Licensing and Related Regulatory Functions,” which implement the National Environmental Policy Act of 1969, as amended (42 U.S.C. 4321 et seq.).

The NRC requires its licensees to plan for the eventual decommissioning of their licensed facilities prior to license termination. On June 17, 2011, the NRC published a final rule in the Federal Register amending its decommissioning planning regulations (76 FR 35511). The final rule amended the NRC regulation, 10 CFR 72.30, which concerns financial assurance and decommissioning for ISFSIs. This regulation requires each holder of, or applicant for, a license under 10 CFR part 72 to submit a DFP for the NRC's review and approval. The DFP is to demonstrate the licensee's financial assurance, i.e., that funds will be available to decommission the ISFSI. The NRC staff will later publish its financial analyses of the DFP submittals which will be available for public inspection in ADAMS.

II. Discussion

The table in this notice includes the plant name, docket number, licensee, and ADAMS accession number for the final EA and FONSI determination for each of the individual ISFSIs. The table also includes the ADAMS accession numbers for other relevant documents, including the initial and updated DFP submittals. For further details with respect to these actions, see the NRC staff's final EA and FONSI determinations which are available for public inspection in ADAMS and at https://www.regulations.gov under Docket ID NRC-2023-0022. For additional direction on accessing information related to this document, see the ADDRESSES section of this document.

Finding of No Significant Impact
Haddam Neck Plant
Docket No | 72-39.
Licensee | Connecticut Yankee Atomic Power Company.
Proposed Action | The NRC's review and approval of Connecticut Yankee Atomic Power Company's updated DFPs submitted in accordance with 10 CFR 72.30(c).
Environmental Impact of Proposed Action | The NRC staff has determined that the proposed action, the review and approval of Connecticut Yankee Atomic Power Company's updated DFPs, submitted in accordance with 10 CFR 72.30(c), will not authorize changes to licensed operations or maintenance activities, or result in changes in the types, characteristics, or quantities of radiological or non-radiological effluents released into the environment from the ISFSI, or result in the creation of solid waste. Moreover, the approval of the updated DFPs will not authorize any construction activity, facility modification, or other land-disturbing activity. The NRC staff has concluded that the proposed action is a procedural and administrative action that will not have a significant impact on the environment.
Finding of No Significant Impact | The proposed action does not require changes to the ISFSI's licensed routine operations, maintenance activities, or monitoring programs, nor does it require new construction or land-disturbing activities. The scope of the proposed action concerns only the NRC's review and approval of Connecticut Yankee Atomic Power Company's updated DFPs. The scope of the proposed action does not include, and will not result in, the review and approval of decontamination or decommissioning activities or license termination for the ISFSI or for other parts of the Haddam Neck Plant. Therefore, the NRC staff determined that approval of the updated DFPs for the Haddam Neck Plant ISFSI will not significantly affect the quality of the human environment, and accordingly, the staff has concluded that a FONSI is appropriate. The NRC staff further finds that preparation of an environmental impact statement is not required.
Available Documents | Federal Register notice. Final Rule “Environmental Protection Regulations for Domestic Licensing and Related Regulatory Functions and Related Conforming Amendments,” dated March 12, 1984 (49 FR 9381).
| Federal Register notice. Final Rule “Decommissioning Planning,” dated June 17, 2011 (76 FR 35512).
| Federal Register notice. Environmental assessment and finding of no significant impact; issuance, dated March 6, 2019 (84 FR 8122).
| U.S. Nuclear Regulatory Commission. 2003/08/31-NUREG-1748, “Environmental Review Guidance for Licensing Actions Associated with NMSS Programs, Final Report.” August 2003. ADAMS Accession No. ML032540811.
| U.S. Nuclear Regulatory Commission. “Environmental Assessment for Final Rule—Decommissioning Planning” (10 CFR parts 20, 30, 40, 50, 70, and 72; RIN 3150-AI55). February 2009. ADAMS Accession No. ML090500648.
| U.S. Nuclear Regulatory Commission. “Nuclear Regulatory Commission's Analysis of Connecticut Yankee Atomic Power Company's Initial and Updated Decommissioning Funding Plans for the Haddam Neck Plant Independent Spent Fuel Storage Installation,” dated February 20, 2019. ADAMS Accession No. ML19070A033.
| U.S. Nuclear Regulatory Commission. “Review of the Draft Environmental Assessment and Finding of No Significant Impact for Haddam Neck Plant Independent Spent Fuel Storage Installation Decommissioning Funding Plans,” dated November 3, 2022. ADAMS Accession No. ML22294A025.
| Connecticut Yankee Atomic Power Company. “Independent Spent Fuel Storage Installation Decommissioning Funding Plan,” dated December 17, 2012. ADAMS Accession No. ML12363A024.
| Connecticut Yankee Atomic Power Company. “Three-Year Update to the Independent Spent Fuel Storage Installation Decommissioning Funding Plan,” dated December 14, 2015. ADAMS Accession No. ML16020A209.
| Connecticut Yankee Atomic Power Company. “Three-Year Update to the Independent Spent Fuel Storage Installation Decommissioning Funding Plan,” dated December 10, 2018. ADAMS Accession No: ML21362A132.
| Connecticut Yankee Atomic Power Company. “Three-Year Update to the Independent Spent Fuel Storage Installation Decommissioning Funding Plan,” dated December 10, 2021. ADAMS Accession No: ML18354A741.
| Connecticut Yankee Atomic Power Company. “Supplemental Information for the Three-Year Update to the Independent Spent Fuel Storage Installation Decommissioning Funding Plan,” dated August 3, 2022. ADAMS Accession No. ML22237A077.
Maine Yankee
Docket No | 72-30.
Licensee | Maine Yankee Atomic Power Company.
Proposed Action | The NRC's review and approval of Maine Yankee Atomic Power Company's updated DFPs submitted in accordance with 10 CFR 72.30(c).
Environmental Impact of Proposed Action | The NRC staff has determined that the proposed action, the review and approval of Maine Yankee Atomic Power Company's updated DFPs, submitted in accordance with 10 CFR 72.30(c), will not authorize changes to licensed operations or maintenance activities, or result in changes in the types, characteristics, or quantities of radiological or non-radiological effluents released into the environment from the ISFSI, or result in the creation of solid waste. Moreover, the approval of the updated DFPs will not authorize any construction activity, facility modification, or other land-disturbing activity. The NRC staff has concluded that the proposed action is a procedural and administrative action that will not have a significant impact on the environment.
Finding of No Significant Impact | The proposed action does not require changes to the ISFSI's licensed routine operations, maintenance activities, or monitoring programs, nor does it require new construction or land-disturbing activities. The scope of the proposed action concerns only the NRC's review and approval of Maine Yankee Atomic Power Company's DFPs. The scope of the proposed action does not include, and will not result in, the review and approval of decontamination or decommissioning activities or license termination for the ISFSI or for other parts of Maine Yankee. Therefore, the NRC staff determined that approval of the updated DFPs for the Maine Yankee ISFSI will not significantly affect the quality of the human environment, and accordingly, the staff has concluded that a FONSI is appropriate. The NRC staff further finds that preparation of an environmental impact statement is not required.
Available Documents | Federal Register notice. Final Rule “Environmental Protection Regulations for Domestic Licensing and Related Regulatory Functions and Related Conforming Amendments,” dated March 12, 1984(49 FR 9381).
| Federal Register notice. Final Rule “Decommissioning Planning,” dated June 17, 2011 (76 FR 35512).
| Federal Register notice. Environmental Assessment and Finding of No Significant Impact of Independent Spent Fuel Storage Facilities Decommissioning Funding Plans, dated May 21, 2019 (84 FR 23072).
| U.S. Nuclear Regulatory Commission. 2003/08/31-NUREG-1748, “Environmental Review Guidance for Licensing Actions Associated with NMSS Programs, Final Report.” August 2003. ADAMS Accession No. ML032540811.
| U.S. Nuclear Regulatory Commission. “Environmental Assessment for Final Rule—Decommissioning Planning” (10 CFR parts 20, 30, 40, 50, 70, and 72; RIN 3150-AI55). February 2009. ADAMS Accession No. ML090500648.
| U.S. Nuclear Regulatory Commission. “Nuclear Regulatory Commission's Analysis of Maine Yankee Atomic Power Company's Initial and Updated Decommissioning Funding Plans for the Maine Yankee Independent Spent Fuel Storage Installation,” dated May 24, 2019. ADAMS Accession No. ML19148A416.
| U.S. Nuclear Regulatory Commission. “Review of the Draft Environmental Assessment and Finding of No Significant Impact for Maine Yankee Atomic Power Company Independent Spent Fuel Storage Installation Decommissioning Funding Plans,” dated November 3, 2022. ADAMS Accession No. ML22290A223.
| Maine Yankee Atomic Power Company. “Revised Independent Spent Fuel Storage Installation Decommissioning Funding Plan,” dated January 8, 2013. ADAMS Package Accession No. ML130460347.
| Maine Yankee Atomic Power Company. “Three-Year Update to the Independent Spent Fuel Storage Installation Decommissioning Funding Plan,” dated December 14, 2015. ADAMS Accession No. ML16020A016.
| Maine Yankee Atomic Power Company. “Three-Year Update to the Independent Spent Fuel Storage Installation Decommissioning Funding Plan,” dated December 10, 2018. ADAMS Accession No. ML18354A736.
| Maine Yankee Atomic Power Company. “Three-Year Update to the Independent Spent Fuel Storage Installation Decommissioning Funding Plan,” dated December 10, 2021. ADAMS Accession No. ML21362A159.
| Maine Yankee Atomic Power Company. “Supplemental Information for the Three-Year Update to the Independent Spent Fuel Storage Installation Decommissioning Funding Plan,” dated July 28, 2022. ADAMS Accession No. ML22216A068.
Yankee Nuclear Power Station (Yankee Rowe)
Docket No | 72-31.
Licensee | Yankee Atomic Electric Company.
Proposed Action | The NRC's review and approval of Yankee Atomic Electric Company's updated DFPs submitted in accordance with 10 CFR 72.30(c).
Environmental Impact of Proposed Action | The NRC staff has determined that the proposed action, the review and approval of Yankee Atomic Electric Company's updated DFPs, submitted in accordance with 10 CFR 72.30(c), will not authorize changes to licensed operations or maintenance activities, or result in changes in the types, characteristics, or quantities of radiological or non-radiological effluents released into the environment from the ISFSI, or result in the creation of solid waste. Moreover, the approval of the updated DFPs will not authorize any construction activity, facility modification, or other land-disturbing activity. The NRC staff has concluded that the proposed action is a procedural and administrative action that will not have a significant impact on the environment.
Finding of No Significant Impact | The proposed action does not require changes to the ISFSI's licensed routine operations, maintenance activities, or monitoring programs, nor does it require new construction or land-disturbing activities. The scope of the proposed action concerns only the NRC's review and approval of Yankee Atomic Electric Company's DFPs. The scope of the proposed action does not include, and will not result in, the review and approval of decontamination or decommissioning activities or license termination for the ISFSI or for other parts of the Yankee Rowe. Therefore, the NRC staff determined that approval of the updated DFPs for the Yankee Rowe ISFSI will not significantly affect the quality of the human environment, and accordingly, the staff has concluded that a FONSI is appropriate. The NRC staff further finds that preparation of an environmental impact statement is not required.
Available Documents | Federal Register notice. Final Rule “Environmental Protection Regulations for Domestic Licensing and Related Regulatory Functions and Related Conforming Amendments,” dated March 12, 1984 (49 FR 9381).
| Federal Register notice. Final Rule “Decommissioning Planning,” dated June 17, 2011 (76 FR 35512).
| Federal Register notice. Environmental Assessments and Findings of No Significant Impact of Independent Spent Fuel Storage Facilities Decommissioning Funding Plans, dated April 14, 2021 (86 FR 19644).
| U.S. Nuclear Regulatory Commission. 2003/08/31-NUREG-1748, “Environmental Review Guidance for Licensing Actions Associated with NMSS Programs, Final Report.” August 2003. ADAMS Accession No. ML032540811.
| U.S. Nuclear Regulatory Commission. “Environmental Assessment for Final Rule—Decommissioning Planning” (10 CFR parts 20, 30, 40, 50, 70, and 72; RIN 3150-AI55). February 2009. ADAMS Accession No. ML090500648.
| U.S. Nuclear Regulatory Commission. “U.S. Nuclear Regulatory Commission Analysis of Yankee Atomic Electric Company, LLC's Initial and Updated Decommissioning Funding Plans for the Yankee Rowe Independent Spent Fuel Storage Installations,” dated April 7, 2021. ADAMS Accession No. ML21062A247.
| U.S. Nuclear Regulatory Commission. “Review of the Draft Environmental Assessment and Finding of No Significant Impact for Yankee Nuclear Power Station Independent Spent Fuel Storage Installation Decommissioning Funding Plans,” dated November 3, 2022. ADAMS Accession No. ML22291A449.
| Yankee Atomic Electric Company. “Independent Spent Fuel Storage Installation Decommissioning Funding Plan,” dated December 17, 2012. ADAMS Package Accession No. ML123630169.
| Yankee Atomic Electric Company. “Three-Year Update to the Independent Spent Fuel Storage Installation Decommissioning Funding Plan,” dated December 14, 2015. ADAMS Accession No. ML16020A016.
| Yankee Atomic Electric Company. “Three-Year Update to the Independent Spent Fuel Storage Installation Decommissioning Funding Plan,” dated December 10, 2018. ADAMS Accession No. ML18354A738.
| Yankee Atomic Electric Company. “Three-Year Update to the Independent Spent Fuel Storage Installation Decommissioning Funding Plan,” dated December 10, 2021. ADAMS Accession No. ML22010A012.
| Yankee Atomic Electric Company. “Supplemental Information for the Three-Year Update to the Independent Spent Fuel Storage Installation Decommissioning Funding Plan,” dated August 3, 2022. ADAMS Accession No. ML22237A063.

Dated: January 31, 2023.
For the Nuclear Regulatory Commission.
Yoira K. Diaz-Sanabria,
Chief, Storage and Transportation Licensing Branch, Division of Fuel Management, Office of Nuclear Material Safety and Safeguards.

[FR Doc. 2023-02347 Filed 2-2-23; 8:45 am]

BILLING CODE 7590-01-P